FEDERAL ELECTION COMMISSION

Sunshine Act Meeting

AGENCY: Federal Election Commission

* * * * *

A public hearing on the proposed rulemaking on brokerage loans and lines of credit on Wednesday, September 19, 2001, has been cancelled.

* * * * *

Date & Time: Wednesday, September 19, 2001 at 10 a.m.

Place: 999 E Street, NW., Washington, DC.

Status: This meeting will be closed to the public.

Items To Be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

Date & Time: Thursday, September 20, 2001 10 a.m.

Place: 999 E Street, NW., Washington, DC (ninth floor).

Status: This meeting will be open to the public.

Items To Be Discussed:

Correction and Approval of Minutes.

Advisory Opinion 2001-12: Democratic Party of Wisconsin by Linda Honold, Chairperson.

Administrative Matters.

Person to Contact for Information: Mr. Ron Harris, Press Officer, Telephone: (202) 694-1220.

Mary W. Dove,
Secretary of the Commission.

[FR Doc. 01-23147 Filed 9-12-01; 11:41 am]

BILLING CODE 6715-01-M